DEPARTMENT OF AGRICULTURE

Agricultural Marketing Service

[Docket Number FV-05-311]

United States Standards for Grades of Muscadine (Vitis Rotundifolia) Grapes

AGENCY: Agricultural Marketing Service, USDA.

ACTION: Notice.

SUMMARY: The Agricultural Marketing Service (AMS) of the Department of Agriculture (USDA) is establishing a voluntary United States Standards for Grades of Muscadine (Vitis Rotundifolia) Grapes. AMS received a request from an industry group representing muscadine grape growers to develop a standard that will provide a common language for trade and a means of measuring value in the marketing of muscadine grapes, thus promoting orderly and efficient marketing of muscadine grapes.

DATES: Effective Date: February 13, 2006.

FOR FURTHER INFORMATION CONTACT: Cheri Emery, Standardization Section, Fresh Products Branch, Fruit and Vegetable Programs, Agricultural Marketing Service, U.S. Department of Agriculture, 1400 Independence Avenue, SW., Room 1661 South Building, STOP 0240, Washington, DC 20250-0240, Fax (202) 720-8871 or call (202) 720-2185; E-mail Cheri.Emery@usda.gov. The United States Standards for Grades of Muscadine (Vitis Rotundifolia) Grapes will be available either through the address cited above or by accessing the AMS, Fresh Products Branch Web site at: http://www.ams.usda.gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities. AMS makes copies of official standards available upon request. The United States Standards for Grades of Fruits and Vegetables not connected with Federal Marketing Orders or U.S. Import Requirements no longer appear in the Code of Federal Regulations, but are maintained by USDA/AMS/Fruit and Vegetable Programs.

AMS is establishing the voluntary United States Standards for Grades of Muscadine (Vitis Rotundifolia) Grapes using procedures that appear in part 36, Title 7 of the Code of Federal Regulations (7 CFR part 36).

Background

AMS received a request from an industry group representing muscadine grape growers to develop a standard that will provide a common language for trade and a means of measuring value in the marketing of muscadine grapes. Based on information gathered and comments rendered by the industry, AMS developed a proposed U.S. Standards for Grades of Muscadine (Vitis Rotundifolia) Grapes. The proposal would establish the following grades as well as a tolerance for each grade: U.S. Extra No. 1 and U.S. No. 1. In addition, proposed “Application of Tolerances” and “Size Classifications” sections would be established. This proposal also defines “Damage,” “Serious Damage,” specific basic requirements and other defects.

On August 8, 2005, AMS published a notice in the Federal Register (69 FR 58879) soliciting comments on the proposed United States Standards for Grades of Muscadine (Vitis Rotundifolia) Grapes.

In response to our request for comments, AMS received one comment from an industry group representing growers that was in favor of the proposed standard, and requested the standard be published with no further changes.

Based on the comment received and information gathered, AMS believes that the standard, as proposed, is beneficial to the industry and provides a common language for trade.

The official grade of a lot of muscadine grapes covered by these standards is determined by the procedures set forth in the Regulations Governing Inspection, Certification, and Standards of Fresh Fruits, Vegetables and Other Products (Sec. 51.1 to 51.61).

The United States Standards for Grades of Muscadine (Vitis Rotundifolia) Grapes will become effective 30 days after the publication of this notice in the Federal Register.

Authority: 7 U.S.C. 1621-1627.

Dated: January 6, 2006.
Lloyd C. Day,
Administrator, Agricultural Marketing Service.

[FR Doc. E6-223 Filed 1-11-06; 8:45 am]

BILLING CODE 3410-02-P